DEPARTMENT OF AGRICULTURE

Forest Service

Notice of New Recreation Fee Site; Federal Lands Recreation Enhancement Act, (Title VIII, Pub. L. 108-447)

AGENCY: National Forests in North Carolina, USDA Forest Service.

ACTION: Notice of New Recreation Fee Site.

SUMMARY: The National Forests in North Carolina will begin charging a $5.00 fee per campsite for overnight use at Curtis Creek Campground, which is presently being expanded and is under construction. This campground will facilitate recreational use within National Forests in North Carolina on the Grandfather Ranger District. Fee revenue will support operations and maintenance of the campground and future site improvements.

DATES: Curtis Creek Campground is scheduled to open for public use in May 2006.

FOR FURTHER INFORMATION CONTACT: David H. Wright, Recreation Fee Coordinator, 828-257-4256, National Forests in North Carolina, PO Box 2750, Asheville, NC 28802.

SUPPLEMENTARY INFORMATION: The Federal Recreation Lands Enhancement Act, (Title VIII, Pub. L. 108-447) directed the Secretary of Agriculture to publish advance notice in the Federal Register whenever new recreation fee areas are established. The National Forest in North Carolina presently manages two overnight recreation fee sites on the Grandfather Ranger District. Recreation fees for overnight use range from $3.00 per single campsite to $20.00 per large group site based on the type and condition of amenities offered. Curtis Creek Campground will offer vault toilet facilities, potable water, developed campsites with picnic table, fire ring, lantern posts, tent pad, trash receptacle, vehicle/camping trailer parking space and access to trails and stream fishing.

Dated: January 25, 2006.
Marisue Hilliard,
National Forests in North Carolina Supervisor.

[FR Doc. 06-877 Filed 1-30-06; 8:45 am]

BILLING CODE 3410-52-M